DEPARTMENT OF THE INTERIOR

National Park Service

Crossroads of the American Revolution Special Resource Study/Environmental Assessment/Feasibility Study Public Meetings and Intent To Publish

AGENCY: National Park Service; Interior.

ACTION: Notice of Intent to Publish a Special Resource Study/Environmental Assessment/Feasibility Study.

SUMMARY: This notice announces an upcoming scoping meeting/open house for the Crossroads of the American Revolution and the intent to publish a Special Resource Study/Environmental Assessment and Feasibility Study in association with the Crossroads of the American Revolution.

Appropriation Bill H.R. 3194 directs the Crossroads of the American Revolution study. Open houses will be held as part of the scoping process. Further notice will be published in local newspapers when dates are set. Local newspapers will include the Trenton Times and Star Ledger among others.

We encourage all who have an interest to contact us by letter or telephone. Further information about the Crossroads of the American Revolution and the open houses can be obtained by contacting Linda Mead, Crossroads Project Leader, at 609-924-4646.

FOR FURTHER INFORMATION CONTACT: Linda Mead, Project Leader, Crossroads of the American Revolution, 570 Mercer Road, Princeton, New Jersey 08540, 609-924-4646.

Dated: January 23, 2001.
Michael D. Henderson,
Superintendent, Morristown National Historic Park.

[FR Doc. 01-3354 Filed 2-8-01; 8:45 am]

BILLING CODE 4310-70-M